DEPARTMENT OF ENERGY

Federal Energy Regulatory Commission

[Project No. 8866-013]

Black Canyon Bliss, LLC; Notice of Intent To Prepare an Environmental Assessment

On February 28, 2022, Black Canyon Bliss LLC filed an application for a subsequent license to continue operating the existing 24-kilowatt Stevenson No. 2 Hydroelectric Project No. 8866 (Stevenson No. 2 Project or project). The project is located on an unnamed tributary to the Snake River in Gooding County, Idaho. The project does not occupy federal land.

In accordance with the Commission's regulations, on November 14, 2022, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Stevenson No. 2 Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the Stevenson No. 2 Project. Therefore, in accordance with CEQ's regulations, the Final EA must be issued within 1 year of the issuance date of this notice.

Milestone | Target date
Commission issues EA | July 2023.¹

Any questions regarding this notice may be directed to Maryam Zavareh at (202) 502-8474 or maryam.zavareh@ferc.gov.

Dated: February 14, 2023.
Kimberly D. Bose,
Secretary.

[FR Doc. 2023-03546 Filed 2-17-23; 8:45 am]

BILLING CODE 6717-01-P